FEDERAL COMMUNICATIONS COMMISSION

47 CFR Part 2

[ET Docket No. 24-136; FCC 25-27; FR ID 308172]

Promoting the Integrity and Security of Telecommunications Certification Bodies, Measurement Facilities, and the Equipment Authorization Program; Correction

AGENCY: Federal Communications Commission.

ACTION: Final rule; correction.

SUMMARY: The Federal Communications Commission (Commission) is correcting a final rule that appeared in the Federal Register on August 7, 2025. The document addressed requirements for all recognized telecommunication certification bodies (TCBs), test labs, and laboratory accreditation bodies to certify to the Commission that they are not owned by, controlled by, or subject to the direction of a prohibited entity and to report all equity or voting interests of 5% or greater by any entity. The document inadvertently included compliance dates for provisions that are delayed indefinitely and excluded a word in one section.

DATES: Effective September 8, 2025, except for the correction to indefinitely delayed amendatory instruction 16, which is effective as of August 26, 2025.

FOR FURTHER INFORMATION CONTACT: Jamie Coleman of the Office of Engineering and Technology, at Jamie.Coleman@fcc.gov or 202-418-2705.

SUPPLEMENTARY INFORMATION: In FR Doc. 2025-14970 appearing on page 38045 in the Federal Register of Thursday, August 7, 2025, the following corrections are made:

1. On page 38068, in the second column, correct amendatory instruction 16 to read as follows:

16. Delayed indefinitely, amend § 2.950 by adding paragraphs (c) through (e) to read as follows:

§ 2.950 Transition periods.

* * * * *

(c) Each recognized laboratory accreditation body must provide to the Commission:

(1) No later than 30 days after [EFFECTIVE DATE OF AMENDATORY INSTRUCTION 16], certification to the Commission that the laboratory accreditation body is not owned by, controlled by, or subject to the direction of a prohibited entity pursuant to § 2.902; and

(2) No later than 90 days after [EFFECTIVE DATE OF AMENDATORY INSTRUCTION 16], documentation to the Commission identifying any entity that has equity or voting interests of 5% or greater in the laboratory accreditation body.

(d) Each recognized laboratory must provide to the Commission:

(1) No later than 30 days after [EFFECTIVE DATE OF AMENDATORY INSTRUCTION 16], certification to the Commission that the laboratory is not owned by, controlled by, or subject to the direction of a prohibited entity pursuant to § 2.902; and

(2) No later than 90 days after [EFFECTIVE DATE OF AMENDATORY INSTRUCTION 16], documentation to the Commission identifying any entity that has equity or voting interests of 5% or greater in the laboratory.

(e) Each recognized TCB must provide to the Commission:

(1) No later than 30 days after [EFFECTIVE DATE OF AMENDATORY INSTRUCTION 16], certification to the Commission that the TCB is not owned by, controlled by, or subject to the direction of a prohibited entity pursuant to § 2.902; and

(2) No later than 90 days after [EFFECTIVE DATE OF AMENDATORY INSTRUCTION 16], documentation to the Commission identifying any entity that has equity or voting interests of 5% or greater in the TCB.

2. On page 38069, in the third column, in § 2.960, correct the introductory text of paragraph (h) to read as follows:

§ 2.960 Recognition of Telecommunication Certification Bodies (TCBs).

* * * * *

(h) The Commission will notify a TCB in writing of its intention to withdraw the TCB's recognition, and provide at least 30 days for the TCB to respond, if the Commission determines that the TCB:

* * * * *

Federal Communications Commission.
Marlene Dortch,
Secretary.

[FR Doc. 2025-16285 Filed 8-25-25; 8:45 am]

BILLING CODE 6712-01-P